DEPARTMENT OF THE INTERIOR

Bureau of Reclamation

Operational Changes in Support of Lake Cascade Fishery Restoration, Boise Project, Payette Division, Idaho

AGENCY: Bureau of Reclamation, Interior.

ACTION: Notice of intent to prepare an environmental impact statement and conduct public scoping meetings.

SUMMARY: Pursuant to the National Environmental Policy Act (NEPA) of 1969, as amended, the Bureau of Reclamation (Reclamation) intends to prepare an environmental impact statement (EIS), and conduct associated public scoping meetings for proposed operational changes at Lake Cascade, on the North Fork Payette River near Cascade, Idaho. The purpose of the proposed operational changes is to allow the Idaho Department of Fish and Game (IDFG) to efficiently and effectively remove most of the northern pikeminnow and largescale suckers from the lake. IDFG has determined that the presence of large numbers of northern pikeminnow and largescale suckers in the lake are a major cause in the decline of the important yellow perch and trout fishery and will prevent recovery of the fishery unless their numbers are significantly reduced. The current proposal is for Reclamation to lower the water elevation of Lake Cascade to the lowest level possible to allow IDFG to remove the undesirable fish and restock the lake with perch and trout.

Reclamation has scheduled public meetings to describe the proposed project and obtain public input on potential impacts of the proposed operational changes at Lake Cascade. These meetings will assist in determining issues and concerns associated with the project that will be analyzed in the EIS.

DATES: Public scoping meetings will be held on the following dates:

• August 11, 2003, in Cascade, Idaho.

• August 12, 2003, in Boise Idaho.

• August 13, 2003, in Emmett, Idaho.

Each meeting will begin with a formal presentation about the proposed project from 7 p.m. to 7:30 p.m. followed by an informal open house from 7:30 p.m. to 8:30 p.m. Comments on the proposed project will be accepted through September 12, 2003.

The meeting facilities are physically accessible to people with disabilities. Please direct requests for sign language interpretation for the hearing impaired, or other auxiliary aids, to Steve Dunn by August 1, 2003, by telephone, fax, or TTY relay number listed under the FOR FURTHER INFORMATION CONTACT section of this notice.

ADDRESSES: Written comments or requests for inclusion on the EIS mailing list may be submitted to Bureau of Reclamation, Snake River Area Office, Attention: Steve Dunn, Natural Resources Specialist, 214 Broadway Avenue, Boise ID 83702-7298.

The meetings will be held at the following locations:

• August 11, 2003, at the American Legion Hall, 105 E Mill Street, Cascade, Idaho.

• August 12, 2003, at the Idaho Department of Fish and Game, 600 S Walnut, Boise Idaho.

• August 13, 2003, at the U.S. Department of Agriculture Service Center, 1805 Highway 16, Emmett, Idaho.

FOR FURTHER INFORMATION CONTACT: Anyone interested in more information concerning the EIS, or who has information that may be useful in identifying significant environmental issues, may contact Mr. Steve Dunn at telephone 208-334-9844, or e-mail sdunn@pn.usbr.gov. TTY users may call 208-334-9844 by dialing 711 to obtain a toll free TTY relay.

SUPPLEMENTARY INFORMATION: Cascade Dam and Reservoir, located on the North Fork Payette River in west central Idaho, were constructed by Reclamation for use as a Federal irrigation facility. Cascade Reservoir, now designated Lake Cascade, has a storage capacity of 693,123 acre feet and encompasses 26,500 surface acres. Lake Cascade, along with Reclamation's Deadwood Reservoir, are part of Reclamation's Payette Division of the Boise Project. These reservoirs supply irrigation water to Idaho Water District 65, which encompasses the lower Payette River Basin. Hydropower is generated at Cascade Dam by Idaho Power Company.

At its peak from the late 1970's through the early 1990's, Lake Cascade was the most-fished water body in Idaho. The year-round yellow perch fishery and stocked rainbow trout and coho salmon not only provided thousands of recreation days for anglers but also significant income for the local economy. The perch fishery vanished and the trout fishery declined significantly in the mid-1990's, and neither has recovered.

IDFG began investigating the decline of the yellow perch fishery in Lake Cascade in 1998 and determined that large numbers of northern pikeminnow and largescale suckers in the lake are a major cause in the decline of the recreational fishery and will prevent recovery of the fishery unless their numbers are significantly reduced. Northern pikeminnow are predators on both yellow perch and trout, and largescale suckers are contributing to the decline of the fishery by competing for food resources.

IDFG has analyzed different methods to remove and/or reduce the numbers of northern pikeminnow and has concluded that the most economical method with the highest probability for success would entail draining the reservoir pool, passing most fish downstream, and utilizing a fish toxicant (rotenone) to kill any remaining fish. The configuration of Cascade Dam would allow the almost complete evacuation of water down to the former river channel. After the eradication of the fish, the reservoir would begin to refill with the next seasons spring runoff.

Through preliminary public involvement conducted by IDFG, several areas of potential impact and public concern caused by the proposed operational changes have been identified. Irrigation supply may be affected, and alternative management of flows and operations will need to be considered. The flows in the North and South Forks of the Payette River provide a commercial whitewater rafting industry, and change in water management from Reclamation reservoirs may have adverse effects. Water-based recreation on the lake itself may also be impacted. Water quality both in Lake Cascade and downstream may be impaired. Lake Cascade also supports several nesting pairs of bald eagles, a federally listed threatened species, as well as abundant waterfowl and other wildlife.

In response to the issues developed during scoping, other alternative means of operating the reservoir system to meet IDFG's needs will be explored and analyzed in the EIS if found to be feasible. In addition to changes at Lake Cascade, these alternatives may involve changes in operations upstream at Payette Lake, as well as at Deadwood Reservoir. Federal, state and local agencies, tribes, and the general public are invited to participate in the EIS process.

Dated: June 11, 2003.
J. William McDonald,
Regional Director, Pacific Northwest Region.

[FR Doc. 03-17815 Filed 7-14-03; 8:45 am]

BILLING CODE 4310-MN-P